RAILROAD RETIREMENT BOARD

Sunshine Act; Notice of Public Meeting

Notice is hereby given that the Railroad Retirement Board will hold a meeting on August 30, 2005, 9:30 a.m., at the Board's meeting room on the 8th floor of its headquarters building, 844 North Rush Street, Chicago, IL. 60611. The agenda for this meeting follows:

(1) IDMS to DB2 Conversion

(2) Discussion on Field Service Hiring

(3) Decision on Reconsideration—DisAbility ReDesign, Inc.

(4) Discussion of the Fiscal Year 2007 Budget

The entire meeting will be open to the public. The person to contact for more information is Beatrice Ezerski, Secretary to the Board, Phone No. 312-751-4920.

Dated: August 18, 2005.
Beatrice Ezerski,
Secretary to the Board

[FR Doc. 05-16900 Filed 8-22-05; 9:58 am]

BILLING CODE 7905-01-M